ENVIRONMENTAL PROTECTION AGENCY

[EPA-R09-SFUND-2017-01; FRL-9965-95-Region 9]

MEW Superfund Area, Mountain View, CA; Notice of Proposed Settlement Agreement and Order on Consent for Certain Response Action Activities by Bona Fide Prospective Purchaser

AGENCY: Environmental Protection Agency (EPA).

ACTION: Notice of proposed settlement.

SUMMARY: This notice announces the availability for review and comment of a proposed administrative settlement agreement under the Comprehensive Environmental Response, Compensation, and Liability Act of 1980, as amended (“CERCLA”), between the U.S. Environmental Protection Agency (“EPA”), and Warmington Fairchild Associates LLC (“Warmingotn”), regarding the Middlefield-Ellis-Whisman (MEW) Superfund Area in Mountain View, California. Under this Settlement Agreement, Warmington agrees to perform certain response action activities at the property located at 277 Fairchild Drive and 228 and 236 Evandale Avenue, in Mountain View, California.

DATES: Comments must be received on or before September 8, 2017.

ADDRESSES: Submit your comments, identified by Docket ID No. EPA-R09-SFUND-2017-01, to the Federal eRulemaking Portal: http://www.regulations.gov. Follow the online instructions for submitting comments. Once submitted, comments cannot be edited or withdrawn. EPA may publish any comment received to its public docket. Do not submit electronically any information you consider to be Confidential Business Information (“CBI”) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Bethany Dreyfus, Assistant Regional Counsel, Office of Regional Counsel (ORC-3), U.S. Environmental Protection Agency, Region 9, 75 Hawthorne Street, San Francisco, CA 94105; tel: (415) 972-3886; fax: (415) 947-3570; Dreyfus.Bethany@epa.gov.

SUPPLEMENTARY INFORMATION: Under the terms of the settlement, Warmington agrees to implement the Response Action Plan, dated June 30, 2017, intended to lower “hot spot” area trichloroethene (TCE) contaminant concentrations in the soil gas and groundwater. The Response Action Plan provides for reduction of “hot spot” contamination to reduce potential risks to human health from exposure to TCE through the subsurface vapor intrusion pathway prior to construction of residential units in those areas. Warmington agrees to pay EPA's costs for oversight of the response action activities. In exchange, Warmington will receive a covenant not to sue from the United States. EPA will consider all comments submitted by the date set forth above and may modify or withdraw its consent to the settlement if comments received disclose facts or considerations that indicate the proposed settlement is inappropriate, improper, or inadequate.

Dated: July 28, 2017.
Enrique Manzanilla,
Director, Superfund Division, U.S. Environmental Protection Agency, Region 9.

[FR Doc. 2017-16813 Filed 8-8-17; 8:45 am]

BILLING CODE 6560-50-P